NUCLEAR REGULATORY COMMISSION

10 CFR Part 72

[NRC-2019-0202]

RIN 3150-AK39

List of Approved Spent Fuel Storage Casks: TN Americas LLC, Standardized NUHOMS® Horizontal Modular Storage System, Certificate of Compliance No. 1004, Renewed Amendment No. 16; Correction

AGENCY: Nuclear Regulatory Commission.

ACTION: Direct final rule; correction.

SUMMARY: The U.S. Nuclear Regulatory Commission (NRC) is correcting a notice that was published in the Federal Register on June 30, 2020, revising the TN Americas LLC, Standardized NUHOMS® Horizontal Modular Storage System listing within the “List of approved spent fuel storage casks” to include Renewed Amendment No. 16 to Certificate of Compliance No. 1004. This action is necessary to provide ADAMS accession numbers in the Availability of Documents table listing that were inadvertently omitted.

DATES: The correction is effective on September 14, 2020, if no significant adverse comments are received by July 30, 2020.

ADDRESSES: Please refer to Docket ID NRC-2019-0202 when contacting the NRC about the availability of information for this action. You may obtain publicly-available information related to this action by any of the following methods:

• Federal Rulemaking Website: Go to https://www.regulations.gov and search for Docket ID NRC-2019-0202. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The Public Document Room (PDR), where you may examine and order copies of public documents is currently closed. You may submit your request to the PDR via email at pdr.resource@nrc.gov or call 1-800-397-4209 between 8:00 a.m. and 4:00 p.m. (EST), Monday through Friday, except Federal holidays.

FOR FURTHER INFORMATION CONTACT: Norma Garcia Santos, Office of Nuclear Material Safety and Safeguards; telephone: 301-415-6999; email: Norma.GarciaSantos@nrc.gov or Torre Taylor, Office of Nuclear Material Safety and Safeguards; telephone: 301-415-7900; email: Torre.Taylor@nrc.gov. Both are staff of the U.S. Nuclear Regulatory Commission, Washington, DC 20555-0001.

SUPPLEMENTARY INFORMATION: In the Federal Register (FR) on June 30, 2020, in FR Doc. 2020-13730, on page 39054, in the Availability of Documents table listing for “Technical Specifications for TN Americas LLC Amendment No. 16 to Certificate of Compliance No. 1004,” add the ADAMS accession numbers ML19262E157, ML19262E159, and ML19262E153.

Dated July 9, 2020.
For the Nuclear Regulatory Commission.
Pamela J. Shepherd-Vladimir,
Acting Chief, Regulatory Analysis and Rulemaking Support Branch, Division of Rulemaking, Environmental, and Financial Support, Office of Nuclear Material Safety and Safeguards.

[FR Doc. 2020-15244 Filed 7-16-20; 8:45 am]

BILLING CODE 7950-01-P